DEPARTMENT OF THE INTERIOR

National Park Service

[NPS-WASO-NAGPRA-NPS0036221; PPWOCRADN0-PCU00RP14.R50000]

Notice of Intent To Repatriate Cultural Items: Boston Children's Museum, Boston, MA

AGENCY: National Park Service, Interior.

ACTION: Notice.

SUMMARY: In accordance with the Native American Graves Protection and Repatriation Act (NAGPRA), Boston Children's Museum intends to repatriate certain cultural items that meet the definition of unassociated funerary objects and that have a cultural affiliation with the Indian Tribes or Native Hawaiian organizations in this notice. The cultural items were removed from Cross County, AR; Poinsett County, AR; New Madrid, MO; and an unknown location or locations.

DATES: Repatriation of the cultural items in this notice may occur on or after August 18, 2023.

ADDRESSES: Melissa Higgins, Boston Children's Museum, 308 Congress Street, Boston, MA 02210, telephone (617) 986-3692, email Higgins@BostonChildrensMuseum.org.

SUPPLEMENTARY INFORMATION: This notice is published as part of the National Park Service's administrative responsibilities under NAGPRA. The determinations in this notice are the sole responsibility of Boston Children's Museum. The National Park Service is not responsible for the determinations in this notice. Additional information on the determinations in this notice, including the results of consultation, can be found in the summary or related records held by Boston Children's Museum.

Description

The seven cultural items were removed from Cross County, AR; Poinsett County, AR; Madrid County, MO; Lower MS/MO; and an unknown location or locations. The seven unassociated funerary objects are three clay jars, one clay water bottle, two clay bottles, and one clay pitcher.

One clay jar was removed from site 3CS22, a cemetery at Jones Place in Cross County, AR. In 1914, this unassociated funerary object was transferred to Boston Children's Museum by the Robert S. Peabody Institute of Archaeology at Phillips Academy Andover through archeologist Dr. Warren K. Moorehead. According to Peabody Institute records, the clay jar was collected by archeologist C.B. Moore in 1909.

One clay water bottle was removed from a cemetery at Cummins Place in Poinsett County, AR. In 1914, this unassociated funerary object was transferred to Boston Children's Museum by the Robert S. Peabody Institute of Archaeology at Phillips Academy Andover through archeologist Dr. Warren K. Moorehead. According to Peabody Institute records, the clay water bottle was collected by archeologist C.B. Moore in 1909.

One clay bottle was removed from Madrid County, MO, and given to Boston Children's Museum by a C.E. Carpenter. When this unassociated funerary object was removed and donated is unknown.

One clay pitcher was removed from Lower MS/MO. In March of 1962, this unassociated funerary object was given to Brandeis University by Charles Cattelle, and in 1970, Brandeis University transferred it to Boston Children's Museum. Catalog notes state that it was “made by mound builders of So. Missouri.” The clay pitcher is similar to clay bodies and assemblages found in Northeastern Arkansas and Southeastern Missouri.

Three clay vessels—one bottle and two jars—were removed from unknown locations. Based on their physical arrangement within the Museum's storage, these unassociated funerary objects are considered to have come from the Southeast, though no provenience information was found in the Museum's accession files or catalog records. These three clay vessels are similar to clay bodies and assemblages found in Northeastern Arkansas and Southeastern Missouri.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and expert opinion.

Determinations

Pursuant to NAGPRA and its implementing regulations, and after consultation with the appropriate Indian Tribes and Native Hawaiian organizations, Boston Children's Museum has determined that:

• The seven cultural items described above are reasonably believed to have been placed with or near individual human remains at the time of death or later as part of the death rite or ceremony and are believed, by a preponderance of the evidence, to have been removed from the specific burial sites of Native American individuals.

• There is a relationship of shared group identity that can be reasonably traced between the cultural items and the Quapaw Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 18, 2023. If competing requests for repatriation are received, Boston Children's Museum must determine the most appropriate requestor prior to repatriation. Requests for joint repatriation of the cultural items are considered a single request and not competing requests. Boston Children's Museum is responsible for sending a copy of this notice to the Indian Tribe identified in this notice.

Authority: Native American Graves Protection and Repatriation Act, 25 U.S.C. 3003, and the implementing regulations, 43 CFR 10.8, 10.10, and 10.14.

Dated: July 12, 2023.
Melanie O'Brien,
Manager, National NAGPRA Program.

[FR Doc. 2023-15233 Filed 7-18-23; 8:45 am]

BILLING CODE 4312-52-P